DEPARTMENT OF HOMELAND SECURITY

Customs and Border Protection

Request for Applicants for Appointment to the Advisory Committee on Commercial Operations of Customs and Border Protection (COAC)

AGENCY: U.S. Customs and Border Protection, Department of Homeland Security (DHS).

ACTION: Committee Management; request for applicants for appointment to the Advisory Committee on Commercial Operations of Customs and Border Protection (COAC).

SUMMARY: U.S. Customs and Border Protection (CBP) is requesting individuals who are interested in serving on the Advisory Committee on Commercial Operations of Customs and Border Protection (COAC) to apply for appointment. COAC provides advice and makes recommendations to the Commissioner of CBP, Secretary of Homeland Security, and Secretary of the Treasury on all matters involving the commercial operations of CBP and related DHS functions.

DATES: Applications for membership should reach CBP on or before May 15, 2010.

ADDRESSES: If you wish to apply for membership, your application should be sent to CBP by one of the following methods:

• E-mail: Tradeevents@dhs.gov.

• Facsimile: 202-325-4290.

• Mail: Ms. Wanda J. Tate, Program Management Analyst, Office of Trade Relations, Customs and Border Protection, 1300 Pennsylvania Avenue, NW., Room 5.2A, Washington, DC 20229.

FOR FURTHER INFORMATION CONTACT: Ms. Wanda J. Tate, Program Management Analyst, Office of Trade Relations, Customs and Border Protection, (202) 344-1440, FAX (202) 325-4290.

SUPPLEMENTARY INFORMATION: The Advisory Committee on Commercial Operations of Customs and Border Protection (COAC) is an advisory committee established in accordance with the provisions of the Federal Advisory Committee Act (FACA), 5 U.S.C., app.

Purpose and Objective: The purpose of the Committee is to provide advice to the Commissioner of Customs and Border Protection, Secretary of Homeland Security, and Secretary of the Treasury on all matters involving the commercial operations of U.S. Customs and Border Protection (CBP) and related functions within the Department of Homeland Security (DHS) or Treasury, and to submit an annual report to Congress describing its operations and setting forth any recommendations. The Committee provides a critical and unique forum for distinguished representatives of diverse industry sectors to present their views and advice directly to senior Treasury, DHS, and CBP officials. This is done on a regular basis in an open and candid atmosphere.

Balanced Membership Plans: The members will be selected by the Commissioner of CBP, subject to approval by the Secretary of Homeland Security, jointly with the Secretary of the Treasury from representatives of the trade and transportation community that do business with CBP, or others who are directly affected by CBP commercial operations and related functions. In addition, members will represent major regions of the country, and, by statute, not more than ten of the twenty Committee members may be affiliated with the same political party.

Background

In the Omnibus Budget Reconciliation Act of 1987, (Pub. L. 100-203), Congress directed the Secretary of the Treasury to create an Advisory Committee on Commercial Operations of the Customs Service (now CBP). The Committee is to consist of twenty members drawn from industry sectors affected by CBP commercial operations with balanced political party affiliations. The Committee's first two-year charter was filed on October 17, 1988, and the Committee has been renewed for subsequent two-year terms times since then.

With the creation of DHS, the Secretary of the Treasury delegated a joint chair and Committee management role to the Secretary of Homeland Security (see Treasury Department Order No. 100-16, 19 CFR Part 0, Appendix.). In Delegation Number 7010.3 (May 2006), the Secretary of Homeland Security delegated to the Commissioner of CBP the authority to preside jointly with Treasury over the meetings of the Committee, to make appointments to COAC subject to approval of the Secretary of Homeland Security jointly with Treasury, and to receive COAC advice.

It is expected that, during its twelfth two-year term, the Committee will consider issues relating to enhanced border and cargo supply chain security, CBP modernization and automation, informed compliance and compliance assessment, account-based processing, commercial enforcement and uniformity, international efforts to harmonize customs practices and procedures, strategic planning, northern border and southern border issues, CBP agricultural inspection and import safety.

Committee Meetings

The Committee meets once each quarter, although additional meetings may be scheduled. Generally, every other meeting of the Committee may be held outside of Washington, DC, usually at a CBP port of entry.

Committee Membership

Membership on the Committee is personal to the appointee and is concurrent with the two-year duration of the charter for the twelfth term. Under the Charter, a member may not send an alternate to represent him or her at a Committee meeting. However, since Committee meetings are generally open to the public, another person from a member's organization may attend and observe the proceedings in a nonparticipating capacity. Regular attendance is essential; the Charter provides that a member who is absent for two consecutive meetings or two meetings in a calendar year may be recommended for replacement on the Committee.

No person who is required to register under the Foreign Agents Registration Act as an agent or representative of a foreign principal may serve on this advisory committee.

Members who are currently serving on the Committee are eligible to re-apply for membership provided that they are not in their second consecutive term and that they have met attendance requirements. A new application letter (see ADDRESSES above) is required, but it may incorporate by reference materials previously filed (please attach courtesy copies).

Members will not be paid compensation by the Federal Government for their services with respect to the COAC.

Application for Advisory Committee Appointment

There is no prescribed format for the application. Applicants may send a letter describing their interest and qualifications and enclose a resume.

Any interested person wishing to serve on the (COAC) must provide the following:

• Statement of interest and reasons for application;

• Complete professional biography or resume;

• Home address and telephone number;

• Work address, telephone number, and email address;

• Political affiliation in order to ensure balanced representation (mandatory). If no party registration or allegiance exists, indicate “independent” or “unaffiliated”;

• Statement agreeing to submit to pre-appointment background and tax checks (mandatory). A national security clearance is not required for the position.

In support of the policy of DHS on gender and ethnic diversity, qualified women and members of minority groups are encouraged to apply for membership.

Dated: March 10, 2010.
David V. Aguilar,
Acting Deputy Commissioner, U.S. Customs and Border Protection.

[FR Doc. 2010-5637 Filed 3-15-10; 8:45 am]

BILLING CODE 9111-14-P